CONSUMER PRODUCT SAFETY COMMISSION

16 CFR Chapter II

Semiannual Regulatory Agenda

AGENCY: U.S. Consumer Product Safety Commission.

ACTION: Semiannual Regulatory Agenda.

SUMMARY: In this document, the Commission publishes its semiannual regulatory flexibility agenda. In addition, this document includes an agenda of regulatory actions that the Commission expects to be under development or review by the agency during the next year. This document meets the requirements of the Regulatory Flexibility Act and Executive Order 12866.

DATES: The Commission welcomes comments on the agenda and on the individual agenda entries. Submit comments to the Division of the Secretariat on or before March 2, 2022.

ADDRESSES: Caption comments on the regulatory agenda, “Regulatory Flexibility Agenda.” You can submit comments by email to: cpsc-os@cpsc.gov. You can also submit comments by mail or delivery to the Division of the Secretariat, U.S. Consumer Product Safety Commission, 4330 East-West Highway, Bethesda, MD 20814-4408.

FOR FURTHER INFORMATION CONTACT: For further information on the agenda, in general, contact Meridith L. Kelsch, Office of the General Counsel, U.S. Consumer Product Safety Commission, 4330 East-West Highway, Bethesda, MD 20814-4408, mkelsch@cpsc.gov. For further information regarding a particular item on the agenda, contact the person listed in the column titled, “Contact,” for that item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice a year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. In addition, the regulatory flexibility agenda must contain the name and telephone number of an agency official who is knowledgeable about the items listed. Agencies must attempt to provide notice of their agendas to small entities and solicit their comments, by directly notifying them, or by including the agenda in publications that small entities are likely to obtain.

In addition, Executive Order 12866, Regulatory Planning and Review (Sept. 30, 1993), requires each agency to publish, twice a year, a regulatory agenda of regulations under development or review during the next year. 58 FR 51735 (Oct. 4, 1993). The Executive order states that agencies may combine this agenda with the regulatory flexibility agenda required under the RFA. The agenda required by Executive Order 12866 must include all the regulatory activities the agency expects to be under development or review during the next 12 months, regardless of whether they may have a significant economic impact on a substantial number of small entities. This agenda also includes regulatory activities that the Commission listed in the spring 2021 agenda and has completed prior to publishing this agenda.

The agenda contains a brief description and summary of each regulatory activity, including the objectives and legal basis for each; an approximate schedule of target dates, subject to revision, for the development or completion of each activity; and the name and telephone number of an agency official who is knowledgeable about items in the agenda.

The internet is the primary means for disseminating the Unified Agenda. The complete Unified Agenda will be available online at: www.reginfo.gov, in a format that allows users to obtain information from the agenda database.

Because agencies must publish in the Federal Register the regulatory flexibility agenda required by the RFA (5 U.S.C. 602), the Commission's printed agenda entries include only:

(1) Rules that are in the agency's regulatory flexibility agenda, in accordance with the RFA, because they are likely to have a significant economic impact on a substantial number of small entities; and

(2) Rules that the agency has identified for periodic review under section 610 of the RFA.

The entries in the Commission's printed agenda are limited to fields that contain information that the RFA requires in an agenda. Additional information on these entries is available in the Unified Agenda published on the internet.

The agenda reflects the Commission's assessment of the likelihood that the specified event will occur during the next year; the precise dates for each rulemaking are uncertain. New information, changes of circumstances, or changes in the law, may alter anticipated timing. In addition, you should not infer from this agenda a final determination by the Commission or its staff regarding the need for, or the substance of, any rule or regulation.

Dated: September 20, 2021.
Alberta E. Mills,
Secretary, Consumer Product Safety Commission.

Consumer Product Safety Commission—Proposed Rule Stage
Sequence No. | Title | Regulation Identifier No.
462 | Portable Generators | 3041-AC36
463 | Furniture Tip Overs: Clothing Storage Units | 3041-AD65
464 | Safety Standard for Magnets | 3041-AD82

Consumer Product Safety Commission—Final Rule Stage
Sequence No. | Title | Regulation Identifier No.
465 | Regulatory Options for Table Saws | 3041-AC31
466 | Petition Requesting Ban for Supplemental Mattresses for Play Yards With Non-Rigid Sides | 3041-AD52

Consumer Product Safety Commission—Long-Term Actions
Sequence No. | Title | Regulation Identifier No.
467 | Recreational Off-Road Vehicles | 3041-AC78

Consumer Product Safety Commission—Completed Actions
Sequence No. | Title | Regulation Identifier No.
468 | Flammability Standard for Upholstered Furniture | 3041-AB35
469 | Standard for Infant Sleep Products | 3041-AD45
470 | Update to CPSC Rules for Testing and Labeling Pertaining to Product Certification and Requirements Pertaining to Third Party Conformity Assessment Bodies | 3041-AD78
471 | Regulatory Flexibility Act Review of the Testing and Labeling Regulations Pertaining to Product Certification of Children's Products, Including Reliance on Component Part Testing | 3041-AD80

CONSUMER PRODUCT SAFETY COMMISSION (CPSC)

Proposed Rule Stage

462. Portable Generators

Legal Authority: 15 U.S.C. 2051

Abstract: In 2006, the Commission issued an advance notice of proposed rulemaking (ANPRM) under the Consumer Product Safety Act (CPSA) concerning portable generators. The ANPRM discussed regulatory options that could reduce deaths and injuries related to portable generators, particularly those involving carbon monoxide (CO) poisoning. In FY 2006, staff awarded a contract to develop a prototype generator engine with reduced CO in the exhaust. Also, in FY 2006, staff entered into an interagency agreement (IAG) with the National Institute of Standards and Technology (NIST) to conduct tests with a generator, in both off-the-shelf and prototype configurations, operating in the garage attached to NIST's test house. In FY 2009, staff entered into a second IAG with NIST with the goal of developing CO emission performance requirements for a possible proposed regulation that would be based on health effects criteria. After additional staff and contractor work, the Commission issued a notice of proposed rulemaking (NPRM) in 2016, proposing a performance standard that would limit the CO emission rates from operating portable generators. In 2018, two voluntary standards adopted different CO mitigation requirements intended to address the CO poisoning hazard associated with portable generators. Staff developed a simulation and analysis plan to evaluate the effectiveness of those voluntary standards' requirements. In 2019, the Commission sought public comments on staff's plan. In August 2020, staff submitted to the Commission a draft notice of availability of the modified plan, based on staff's review and consideration of the comments, for evaluating the voluntary standards; the Commission published the notice of availability in August 2020. Staff is now executing the modified plan.

Timetable:

Action | Date | FR Cite
Staff Sent ANPRM to Commission | 07/06/06 |
Staff Sent Supplemental Material to Commission | 10/12/06 |
Commission Decision | 10/26/06 |
Staff Sent Draft ANPRM to Commission | 11/21/06 |
ANPRM | 12/12/06 | 71 FR 74472
ANPRM Comment Period End | 02/12/07 |
Staff Releases Research Report for Comment | 10/10/12 |
NPRM | 11/21/16 | 81 FR 83556
NPRM Comment Period Extended | 12/13/16 | 81 FR 89888
Public Hearing for Oral Comments | 03/08/17 | 82 FR 8907
NPRM Comment Period End | 04/24/17 |
Staff Sends Notice of Availability to the Commission | 06/26/19 |
Commission Decision | 07/02/19 |
Notice of Availability | 07/09/19 | 84 FR 32729
Staff Sends Notice of Availability to Commission | 08/12/20 |
Commission Decision | 08/19/20 |
Notice of Availability | 08/24/20 | 85 FR 52096
Staff Report on Effectiveness Evaluation of Voluntary Standards | 03/00/22 |

Regulatory Flexibility Analysis Required: Yes.

Agency Contact: Janet L. Buyer, Project Manager, Directorate for Engineering Sciences, Consumer Product Safety Commission, National Product Testing and Evaluation Center, 5 Research Place, Rockville, MD 20850, Phone: 301 987-2293, Email: jbuyer@cpsc.gov.

RIN: 3041-AC36

463. Furniture Tip Overs: Clothing Storage Units

Legal Authority: 15 U.S.C. 2058

Abstract: Based on direction in the Fiscal Year 2016 Operating Plan, staff submitted a briefing package to the Commission in September 2016, addressing furniture tip overs and focused, specifically, on clothing storage unit (CSU) tip overs. CPSC is aware of fatal and non-fatal incidents involving CSUs tipping over. The majority of incidents involve children. In November 2017, the Commission issued an ANPRM, seeking comments and initiating rulemaking under the Consumer Product Safety Act (15 U.S.C. 2051-2089). In July 2021, staff submitted a notice of proposed rulemaking (NPRM) briefing package to the Commission and is awaiting the Commission's vote on that package.

Timetable:

Action | Date | FR Cite
Staff Sent Briefing Package to Commission | 09/30/16 |
Staff Sent ANPRM Briefing Package to Commission | 11/15/17 |
Commission Decision on ANPRM | 11/21/17 |
ANPRM | 11/30/17 | 82 FR 56752
Comment Period Extended | 01/17/18 | 83 FR 2382
Comment Period End | 04/14/18 |
Staff Sent NPRM Briefing Package to Commission | 07/14/21 |
Commission Decision | 11/00/21 |

Regulatory Flexibility Analysis Required: Yes.

Agency Contact: Kristen Talcott, Project Manager, Directorate for Engineering Sciences, Consumer Product Safety Commission, National Product Testing and Evaluation Center, 5 Research Place, Rockville, MD 20850, Phone: 301 987-2311, Email: ktalcott@cpsc.gov.

RIN: 3041-AD65

464. Safety Standard for Magnets

Legal Authority: 15 U.S.C. 553; 15 U.S.C. 2056; 15 U.S.C. 2058

Abstract: Based on direction in the Fiscal Year 2021 Operating Plan, staff plans to submit a notice of proposed rulemaking (NPRM) briefing package to the Commission in fall 2021 to address the internal interaction hazard associated with small, powerful magnets.

Timetable:

Action | Date | FR Cite
Staff Sends NPRM Briefing Package to Commission | 11/00/21 |

Regulatory Flexibility Analysis Required: Yes.

Agency Contact: Stephen Harsanyi, Project Manager, Directorate for Engineering Sciences, Consumer Product Safety Commission, National Product Testing and Evaluation Center, 5 Research Place, Rockville, MD 20850, Phone: 301 987-2209, Email: sharsanyi@cpsc.gov.

RIN: 3041-AD82

CONSUMER PRODUCT SAFETY COMMISSION (CPSC)

Final Rule Stage

465. Regulatory Options for Table Saws

Legal Authority: 5 U.S.C. 553(e); 15 U.S.C. 2051

Abstract: In 2006, the Commission granted a petition asking that the Commission issue a rule to prescribe performance standards for an active injury mitigation system to reduce or prevent injuries from contacting the blade of a table saw. The Commission subsequently issued a notice of proposed rulemaking (NPRM) that would establish a performance standard requiring table saws to limit the depth of cut to 3.5 millimeters when a test probe, acting as a surrogate for a human body/finger, contacts the table saw's spinning blade. Staff has conducted several studies to provide information for the rulemaking. Staff is working on a final rule briefing package.

Timetable:

Action | Date | FR Cite
Commission Decision to Grant Petition | 07/11/06 |
ANPRM | 10/11/11 | 76 FR 62678
Notice of Extension of Time for Comments | 12/02/11 | 76 FR 75504
Comment Period End | 02/10/12 |
Notice to Reopen Comment Period | 02/15/12 | 77 FR 8751
Reopened Comment Period End | 03/16/12 |
Staff Sent NPRM Briefing Package to Commission | 01/17/17 |
Commission Decision | 04/27/17 |
NPRM | 05/12/17 | 82-FR 22190
NPRM Comment Period End | 07/26/17 |
Public Hearing | 08/09/17 | 82 FR 31035
Staff Sent 2016 NEISS Table Saw Type Study Status Report to Commission | 08/15/17 |
Staff Sent 2017 NEISS Table Saw Special Study to Commission | 11/13/18 |
Notice of Availability of 2017 NEISS Table Saw Special Study | 12/04/18 | 83FR62561
Staff Sends a Status Briefing Package on Table Saws to Commission | 08/28/19 |
Commission Decision | 09/10/19 |
Staff Sends Final Rule Briefing Package to Commission | 01/00/22 |

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC31

466. Petition Requesting Ban for Supplemental Mattresses for Play Yards With Non-Rigid Sides

Legal Authority: Pub. L. 110-314, sec. 104

Abstract: The Commission received a petition requesting that the Commission initiate rulemaking under section 8 of the CPSA to ban supplemental mattresses for play yards with non-rigid sides, which are currently marketed to be used with non-full-size cribs, play yards, portable cribs, and playpens. After obtaining comments on the petition, the Commission voted to “take other action” on the petition, granting the petition but directing staff to initiate a rulemaking under section 104 of the Consumer Product Safety Improvement Act to promulgate a mandatory standard that will address the risk of injury associated with the use of crib mattresses, as well as supplemental and aftermarket mattresses used in play yards and portable cribs. The Commission will assess the effectiveness of applicable voluntary standards, and in accordance with the Administrative Procedure Act, could promulgate consumer product safety standards that are the same as the voluntary standard, or more stringent than the voluntary standard, if the Commission determines that more stringent standards would further reduce the risk of injury associated with the product. The Commission issued a notice of proposed rulemaking (NPRM) for crib mattresses in October 2020, to address hazards associated with full-size crib mattresses, non-full-size mattresses, and after-market mattresses for play yards and non-full-size crib mattresses. Staff is working toward sending a final rule briefing package to the Commission before the end of FY2021. Staff is still working with the voluntary standards committee on play yards, to address hazards associated with play yard mattress fit and thickness.

Timetable:

Action | Date | FR Cite
Petition Docketed | 07/29/15 |
Notice Published in Federal Register | 08/11/15 | 80 FR 48043
Comment Period End | 10/13/15 |
Staff Sends Briefing Package to Commission | 05/10/17 |
Commission Decision | 05/25/17 |
Staff Sends Crib Mattresses NPRM Briefing Package to Commission | 09/30/20 |
Commission Publishes Crib Mattresses NPRM in Federal Register | 10/26/20 | 85 FR 67906
NPRM Comment Period End | 01/11/21 |
Staff Sends Crib Mattresses Final Rule Briefing Package to Commission | 09/22/21 |
Commission Decision | 11/00/21 |

Regulatory Flexibility Analysis Required: Yes.

Agency Contact: Hope Nesteruk, Project Manager, Directorate for Engineering Sciences, Consumer Product Safety Commission, National Product Testing and Evaluation Center, 5 Research Place, Rockville, MD 20850, Phone: 301 987-2579, Email: hnesteruk@cpsc.gov.

RIN: 3041-AD52

CONSUMER PRODUCT SAFETY COMMISSION (CPSC)

Long-Term Actions

467. Recreational Off-Road Vehicles

Legal Authority: 15 U.S.C. 2056; 15 U.S.C. 2058

Abstract: The Commission is considering whether recreational off-road vehicles (ROVs) present an unreasonable risk of injury that should be regulated. Staff conducted testing and evaluation programs to develop performance requirements addressing vehicle stability, vehicle handling, and occupant protection. In 2014, the Commission issued an NPRM proposing standards addressing vehicle stability, vehicle handling, and occupant protection. Congress directed in fiscal year 2016, and reaffirmed in subsequent fiscal year appropriations, that none of the amounts made available by the Appropriations Bill may be used to finalize or implement the proposed Safety Standard for Recreational Off-Highway Vehicles until after the National Academy of Sciences completes a study to determine specific information as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. In the FY 2020 Operating Plan, the Commission directed staff to prepare a rulemaking termination briefing package. Staff submitted a briefing package to the Commission on September 16, 2020 that recommended termination of rulemaking. On September 22, 2020 the Commission voted 2-2 on this matter. A majority was not reached and no action will be taken.

Timetable:

Action | Date | FR Cite
Staff Sends ANPRM Briefing Package to Commission | 10/07/09 |
Commission Decision | 10/21/09 |
ANPRM | 10/28/09 | 74 FR 55495
ANPRM Comment Period Extended | 12/22/09 | 74 FR 67987
Extended Comment Period End | 03/15/10 |
Staff Sends NPRM Briefing Package to Commission | 09/24/14 |
Staff Sends Supplemental Information on ROVs to Commission | 10/17/14 |
Commission Decision | 10/29/14 |
NPRM Published in Federal Register | 11/19/14 | 79 FR 68964
NPRM Comment Period Extended | 01/23/15 | 80 FR 3535
Extended Comment Period End | 04/08/15 |
Staff Sends Briefing Package Assessing Voluntary Standards to Commission | 11/22/16 |
Commission Decision Not to Terminate | 01/25/17 |
Staff Sends Briefing Package to Commission | 09/16/20 |
Commission Decision: Majority Not Reached, No Action Will be Taken | 09/22/20 |
Next Step Undetermined | To Be Determined

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC78

CONSUMER PRODUCT SAFETY COMMISSION (CPSC)

Completed Actions

468. Flammability Standard for Upholstered Furniture

Legal Authority: 15 U.S.C. 1193; 5 U.S.C. 801

Abstract: The Commission published a notice of proposed rulemaking (NPRM) to prescribe flammability standards for upholstered furniture under the Flammable Fabrics Act (FFA) to address the risk of fire associated with cigarette and small open-flame ignitions of upholstered furniture. The Commission's proposed rule would require that upholstered furniture have cigarette-resistant fabrics or cigarette and open flame-resistant barriers. The proposed rule would not require flame-resistant chemicals in fabrics or fillings. Since the Commission published the NPRM, Congress signed into law, “COVID -19 Regulatory Relief and Work From Home Safety Act,” Public Law 116-260 (COVID-19 Act). Section 2101 of the COVID-19 Act mandates that, 180 days after the date of enactment of the COVID-19 Act, the standard for upholstered furniture set forth by the Bureau of Electronic and Appliance Repair, Home Furnishings and Thermal Insulation of the Department of Consumer Affairs of the State of California in Technical Bulletin 117-2013, entitled “Requirements, Test Procedure and Apparatus for Testing the Smolder Resistance of Materials Used in Upholstered Furniture,” originally published June 2013, “shall be considered to be a flammability standard promulgated by the Consumer Product Safety Commission under section 4 of the Flammable Fabrics Act (15 U.S.C. 1193).” In light of the enactment of the COVID-19 Act, on March 30, 2021, the Commission voted to terminate the rulemaking associated with upholstered furniture and directed that a notice announcing the termination of rulemaking be issued in the Federal Register. Staff is working on the notice of termination.

Timetable:

Action | Date | FR Cite
ANPRM | 06/15/94 | 59 FR 30735
Commission Hearing May 5 & 6, 1998 on Possible Toxicity of Flame-Retardant Chemicals | 03/17/98 | 63 FR 13017
Meeting Notice | 03/20/02 | 67 FR 12916
Notice of Public Meeting | 08/27/03 | 68 FR 51564
Public Meeting | 09/24/03 |
ANPRM | 10/23/03 | 68 FR 60629
ANPRM Comment Period End | 12/22/03 |
Staff Held Public Meeting | 10/28/04 |
Staff Held Public Meeting | 05/18/05 |
Staff Sent Status Report to Commission | 01/31/06 |
Staff Sent Status Report to Commission | 11/03/06 |
Staff Sent Status Report to Commission | 12/28/06 |
Staff Sent Options Package to Commission | 12/22/07 |
Commission Decision to Direct Staff to Prepare Draft NPRM | 12/27/07 |
Staff Sent Draft NPRM to Commission | 01/22/08 |
Commission Decision to Publish NPRM | 02/01/08 |
NPRM | 03/04/08 | 73 FR 11702
NPRM Comment Period End | 05/19/08 |
Staff Published NIST Report on Standard Test Cigarettes | 05/19/09 |
Staff Publishes NIST Report on Standard Research Foam | 09/14/12 |
Notice of April 25 Public Meeting and Request for Comments | 03/20/13 | 78 FR 17140
Staff Holds Upholstered Furniture Fire Safety Technology Meeting | 04/25/13 |
Comment Period End | 07/01/13 |
Staff Sends Briefing Package to Commission on California's TB 117-2013 | 09/08/16 |
Staff Sends Options Package to the Commission | 09/25/19 |
Commission Decision | 10/04/19 |
Staff Submits Notice of Termination to the Commission | 09/01/21 |
Commission Decision | 09/08/21 |
Notice of Termination of Rulemaking | 09/16/21 | 86 FR 51639

Regulatory Flexibility Analysis Required: Yes.

Agency Contact: Andrew Lock, Project Manager, Directorate for Laboratory Sciences, Consumer Product Safety Commission, National Product Testing and Evaluation Center, 5 Research Place, Rockville, MD 20850, Phone: 301 987-2099, Email: alock@cpsc.gov.

RIN: 3041-AB35

469. Standard for Infant Sleep Products

Legal Authority: Pub. L. 110-314, sec. 104

Abstract: Section 104 of the Consumer Product Safety Improvement Act of 2008 (CPSIA) requires the Commission to issue consumer product safety standards for durable infant or toddler products. The Commission is directed to assess the effectiveness of applicable voluntary standards, and in accordance with the Administrative Procedure Act, promulgate consumer product safety standards that are substantially the same as or more stringent than the voluntary standard if the Commission determines that more stringent standards would further reduce the risk of injury associated with the product. The Commission issued an NPRM and, based on additional infant deaths in the product, also issued a Supplemental NPRM, proposing a mandatory rule with substantial modifications to the voluntary standard, to further reduce the risk of injury. Staff reviewed the comments on the Supplemental NPRM, updated incident data, and submitted a final rule briefing package to the Commission in May 2021. The Commission published a final rule for infant sleep products on June 23, 2021, which becomes effective on June 23, 2022.

Timetable:

Action | Date | FR Cite
Staff Sends NPRM Briefing Package to Commission | 03/22/17 |
Commission Decision | 03/28/17 |
NPRM | 04/07/17 | 82 FR 16963
NPRM Comment Period End | 06/21/17 |
Staff Sends Draft Termination Notice to Commission | 06/12/19 |
Staff Sends Supplemental NPRM Briefing Package to Commission | 10/16/19 |
Commission Decision | 10/25/19 |
Supplemental NPRM | 11/12/19 | 84 FR 60949
Staff Sent Final Rule Briefing Package to Commission | 05/12/21 |
Final Rule | 06/23/21 | 86 FR 33022

Regulatory Flexibility Analysis Required: Yes.

Agency Contact: Celestine Kish, Project Manager, Directorate for Engineering Sciences, Consumer Product Safety Commission, National Product Testing and Evaluation Center, 5 Research Place, Rockville, MD 20850, Phone: 301 987-2547, Email: ckish@cpsc.gov.

RIN: 3041-AD45

470. Update to CPSC Rules for Testing and Labeling Pertaining to Product Certification and Requirements Pertaining to Third Party Conformity Assessment Bodies

Legal Authority: Pub. L. 110-314, sec. 102

Abstract: In December 2017, the International Organization for Standardization (ISO) issued new versions of the standards, “ISO/IEC 17025:2017 General Requirements for the Competence of Testing and Calibration Laboratories” and “ISO/IEC 17011:2004 Conformity assessment—Requirements for Accreditation Bodies Accrediting Conformity Assessment Bodies.” The CPSC regulation for acceptance of third-party testing laboratories is 16 CFR part 1112. The CPSC regulation for testing and labeling pertaining to product certification is 16 CFR part 1107. In FY 2021, staff submitted a briefing package to the Commission that recommended a direct final rule to amend 16 CFR part 1112 to update the incorporation by reference from ISO/IEC 17025:2005 to ISO/IEC 17025:2017. This rule was approved by the Commission on April 9, 2021. The direct final rule also amends 16 CFR part 1107 to update the incorporation by reference from ISO/IEC 17025:2005 to ISO/IEC 17025:2017 and the incorporation by reference from ISO/IEC 17011:2004 to ISO/IEC 17011:2017.

Timetable:

Action | Date | FR Cite
Staff Sends Direct Final Rule Briefing Package to Commission | 03/31/21 |
Direct Final Rule Published | 04/30/21 | 86 FR 22863

Regulatory Flexibility Analysis Required: Yes.

Agency Contact: Scott Heh, Laboratory Accreditation Program Manager, Consumer Product Safety Commission, National Product Testing and Evaluation Center, 5 Research Place, Rockville, MD 20850, Phone: 301 504-7646, Email: sheh@cpsc.gov.

RIN: 3041-AD78

471. Regulatory Flexibility Act Review of the Testing and Labeling Regulations Pertaining to Product Certification of Children's Products, Including Reliance on Component Part Testing

Legal Authority: 5 U.S.C. 610

Abstract: Under section 610 of the Regulatory Flexibility Act (RFA), CPSC must review within 10 years after their issuance regulations that have a significant economic impact on a substantial number of small entities. CPSC is conducting this review of the regulations for third party testing and certification to demonstrate compliance with safety standards for children's products. CPSC issued the testing and component part regulations in 16 CFR parts 1107 and 1109 in 2011. CPSC will publish notice of this review and seek comments to determine whether, consistent with CPSC's statutory obligations, these regulations should be maintained without change, or modified to minimize the significant impact of the rules on a substantial number of small entities.

Timetable:

Action | Date | FR Cite
Staff Sends Notice of Availability to Commission | 07/15/20 |
Commission Decision | 07/21/20 |
Notice of Availability Published | 08/24/20 | 85 FR 52078
Comment Period Ends | 10/23/20 |
Briefing Package to Commission | 05/19/21 |
Commission Decision | 05/25/21 |
Notice of Availability Published | 06/07/21 | 86 FR 30288

Regulatory Flexibility Analysis Required: Yes.

Agency Contact: Susan Proper, Directorate for Economic Analysis, Consumer Product Safety Commission, 4330 East-West Hwy., Bethesda, MD 20814, Phone: 301 504-7628, Email: sproper@cpsc.gov.

RIN: 3041-AD80

[FR Doc. 2021-27973 Filed 1-28-22; 8:45 am]

BILLING CODE 6355-01-P